DEPARTMENT OF THE INTERIOR

Fish and Wildlife Service

50 CFR Part 17

[FWS-R2-ES-2025-1661; FXES1111090FEDR-267-FF09E21000]

Endangered and Threatened Wildlife and Plants; Status Review for the Lesser Prairie-Chicken

AGENCY: Fish and Wildlife Service, Interior.

ACTION: Notification of initiation of status review; request for comment.

SUMMARY: In response to a court order, we, the U.S. Fish and Wildlife Service (Service) are initiating a new 12-month petition finding process for the lesser prairie-chicken (Tympanuchus pallidicinctus) under the Endangered Species Act of 1973, as amended (Act). We ask the public to submit to us any information relevant to the status of the lesser prairie-chicken or its habitat.

DATES: Although we welcome new information submissions at any time, to ensure that we can fully consider your information in the new status assessment, please submit comments on or before March 30, 2026.

ADDRESSES:

Comment submission: You may submit comments by one of the following methods:

(1) Electronically: Go to the Federal eRulemaking Portal: https://www.regulations.gov. In the Search box, enter FWS-R2-ES-2025-1661, which is the docket number for this document. Then, click on the Search button. On the resulting page, in the panel on the left side of the screen, under the Document Type heading, check the Proposed Rule box to locate this document. You may submit a comment by clicking on “Comment.”

(2) By hard copy: Submit by U.S. mail to: Public Comments Processing, Attn: FWS-R2-ES-2025-1661, U.S. Fish and Wildlife Service, MS: PRB/3W, 5275 Leesburg Pike, Falls Church, VA 22041-3803.

We request that you send comments only by the methods described above. We will post all comments on https://www.regulations.gov. This generally means that we will post any personal information you provide us (see Request for Information, below, for more information).

Information regarding the lesser prairie-chicken: Related materials, such as the 2022 species status assessment report, are available at https://www.regulations.gov under Docket No. FWS-R2-ES-2021-0015, the docket for previous Federal actions.

FOR FURTHER INFORMATION CONTACT: Clay Nichols, Biologist, Southwest Regional Office, 817-277-1100, clay_nichols@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Species Information

Please refer to the 2022 Species Status Assessment Report (Service 2022, entire) final rule and supporting documents available at https://www.regulations.gov under Docket No. FWS-R2-ES-2021-0015 for more detailed information about the lesser prairie-chicken's life history, habitat, and geographic range and distribution.

The lesser prairie-chicken is a grassland bird found in southeastern Colorado, western Kansas, eastern New Mexico, western Oklahoma, and the Texas Panhandle. The lesser prairie-chicken is a lek breeding species that requires large blocks of unfragmented prairie habitat to fulfill its life history needs. The species occurs in four ecoregions associated with unique environmental conditions based on habitat and climactic variables (the Shinnery Oak Ecoregion, the Sand Sagebrush Ecoregion, the Mixed-Grass Ecoregion, and the Short-Grass Ecoregion).

Previous Federal Actions

Please see the 2021 proposed listing rule (86 FR 29432; June 1, 2021) for a complete discussion of previous Federal actions. Further, we published a final rule to list the lesser prairie-chicken as two distinct population segments (DPSs) (the northern DPS as threatened and the southern DPS as endangered) and issued protective regulations under section 4(d) of the Act (a “4(d) rule”) for the northern DPS on November 25, 2022 (87 FR 72674). On March 29, 2025, the U.S. District Court for the Western District of Texas vacated the 4(d) rule for the northern DPS of the lesser prairie-chicken (Kansas Natural Resource Coalition, et al. v. United States Fish and Wildlife Service, et al., No. 7:23-cv-00159 (W.D. Tex.)). On August 12, 2025, the U.S. District Court for the Western District of Texas issued an order vacating the final listing rule for both the northern and southern DPSs of the lesser prairie-chicken (State of Texas, et al. v. Department of the Interior, et al., No. 23-cv-00047 (W.D. TX)). The final rule to withdraw the listing of the northern and southern DPSs of the lesser prairie-chicken and the 4(d) rule for the northern DPS in compliance with the court orders is published elsewhere in today's Federal Register. More information on the litigation history for the recent court case is available in that final rule.

As noted in the August 12, 2025, court order, the Service intends to make a new 12-month petition finding on the original 2016 petition that gave rise to the 2022 final listing rule. Thus, we are requesting any new information to inform our new 12-month petition finding.

Request for Information

We are requesting the submission of any information pertaining to the lesser prairie-chicken. We are particularly interested in information that has become available since, or was not considered in, the 2022 final listing rule. If you already submitted comments or information in the previous proposed rulemaking or in other comment periods, there is no need to resubmit them. Any such comments were incorporated as part of the public record of the rulemaking proceeding, and we will fully consider them in the preparation of our subsequent determinations. While we will accept new information on the lesser prairie-chicken at any time, we request that new information be submitted no later than the date specified above under DATES to provide adequate time to incorporate it into our status review. We are particularly interested in the following types of information pertaining to the lesser prairie-chicken:

(1) The species' biology (including genetics), range, and population trends.

(2) Factors that may affect the continued existence of the species, which may include habitat modification or destruction, overutilization, disease, predation, the inadequacy of existing regulatory mechanisms, or other natural or manmade factors.

(3) Biological, commercial trade, or other relevant data concerning any threats (or lack thereof) to this species and existing conservation measures and regulations that may be addressing those threats.

(4) Additional information concerning the historical and current status, range, distribution, and population size of this species, including the locations of any additional populations of this species.

We request that you submit any new information concerning the taxonomy of, biology of, ecology of, status of, or threats to the lesser prairie-chicken, to https://www.regulations.gov before 11:59 p.m. (eastern time) on the date specified in DATES.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Authority

The authority for this action is section 4 of the Endangered Species Act of 1973, as amended (16 U.S.C. 1531 et seq.).

Brian R. Nesvik,
Director, U.S. Fish and Wildlife Service.

[FR Doc. 2026-03882 Filed 2-25-26; 8:45 am]

BILLING CODE 4333-15-P